DEPARTMENT OF LABOR

Occupational Safety and Health Administration

[Docket No. ICR-1218-0184(2003)]

4,4′-Methylenedianiline (MDA) General Industry Standard (29 CFR 1910.1050); Extension of the Office of Management and Budget's (OMB) Approval of Information-Collection (Paperwork) Requirements

AGENCY: Occupational Safety and Health Administration (OSHA); Labor.

ACTION: Request for comment.

SUMMARY: OSHA solicits comments concerning its proposal to increase the existing burden-hours estimates, and to extend OMB approval of the information-collection requirements of the 4,4′-Methylenedianiline General Industry Standard (the “MDA General Industry Standard”) (29 CFR 1910.1050).¹ The standard protects employees from adverse health effects from occupational exposure to MDA, including cancer and liver disease.

¹ Based on its assessment of the paperwork requirements contained in this standard, the Agency estimates that the total burden hours increased compared to its previous burden-hour estimate. Under this notice, OSHA is not proposing to revise these paperwork requirements in any substantive manner, only to increase the burden hours imposed by the existing paperwork requirements.

DATES: Comments must be submitted by the following dates:

Hard Copy: Your comments must be submitted (postmarked or received) by September 9, 2003.

Facsimile and electronic transmission: Your comments must be sent by September 9, 2003.

ADDRESSES:

I. Submission of Comments

Regular mail, express delivery, hand-delivery, and messenger service: Submit your comments and attachments to the OSHA Docket Office, Docket No. ICR-1218-0184(2003), Room N-2625, U.S. Department of Labor, 200 Constitution Avenue, NW., Washington, DC 20210. OSHA Docket Office and Department of Labor hours of operation are 8:15 a.m. to 4:45 p.m., EST.

Facsimile: If your comments, including any attachments, are 10 pages or fewer, you may fax them to the OSHA Docket Office at (202) 693-1648. You must include the docket number ICR 1218-0184(2003), in your comments.

Electronic: You may submit comments, but not attachments, through the Internet at http://ecomments.osha.gov.

II. Obtaining Copies of the Supporting Statement for the Information Collection Request

The Supporting Statement for the Information Collection Request is available for downloading from OSHA's website at www.osha.gov. The supporting statement is available for inspection and copying in the OSHA Docket Office, at the address listed above. A printed copy of the supporting statement cab be obtained by contacting Todd Owen at (202) 693-2222.

FOR FURTHER INFORMATION CONTACT: Todd Owen, Directorate of Standards and Guidance, OSHA, U.S. Department of Labor, Room N-3641, 200 Constitution Avenue, NW., Washington, DC 20210; telephone: (202) 693-2222. A copy of the Agency's Information-Collection Request (ICR) supporting the need for the information-collection requirements specified in the MDA General Industry Standard is available for inspection and copying in the Docket Office, or by requesting a copy from Todd Owen at (202) 693-2222. For electronic copies of the ICR contact OSHA on the Internet at http://www.osha.gov/comp-links.html, and select “Information Collection Requests.”

SUPPLEMENTARY INFORMATION:

I. Background

The Department of Labor, as part of its continuing effort to reduce paperwork and respondent (i.e., employer) burden, conducts a preclearance consultation program to provide the public with an opportunity to comment on proposed and continuing information-collection requirements in accordance with the Paperwork Reduction Act of 1995 (PRA-95) (44 U.S.C. 3506(c)(2)(A)). This program ensures that information is in the desired format, reporting burden (time and cost) is minimal, collection instruments are clearly understandable, and OSHA's estimate of the information-collection burden is correct. The Occupational Safety and Health Act of the 1970 (the Act) authorizes information collection by employers as necessary or appropriate for enforcement of the Act or for developing information regarding the causes and prevention of occupational injuries, illnesses, and accidents (29 U.S.C. 657).

The information-collection requirements specified in the MDA General Industry Standard protect employees from the adverse health effects that may result from their exposure to MDA. The major information-collection requirements of the MDA General Industry Standard require employers to perform exposure monitoring; exposure monitoring includes initial monitoring to determine the extent of employee exposure to MDA; periodic (i.e., at least semi-annually) monitoring if the employees' MDA exposures is at or below the permissible exposure limit but above the action level; and additional monitoring if any changes occur in MDA-production processes, control equipment, personnel or work practices that may result in new or increased employee exposures to MDA. Employers must routinely inspect the hands, face and forearms of employees potentially exposed to MDA for dermal exposure to MDA. Employers must also notify each employee in writing, either individually or by posting results, within 15 days after receiving exposure-monitoring results, establish written compliance program, institute a respiratory-protection program in accordance with 29 CFR 1910.134 (OSHA's Respiratory Protection Standard); and develop a written emergency plan for any workplace that could have an emergency (i.e. an unexpected and potentially hazardous release of MDA).

Other paperwork requirements of the Standard specify that employers must provide employees with medical examinations, including initial examinations for new employees prior to their initial job assignment; follow-up annual examinations for employees receiving initial medical examinations; and emergency examinations if employees receive potentially hazardous MDA exposures under emergency conditions. As part of the medical-surveillance program, employers must provided specific written information to the examining physicians, and obtain from these physicians a written opinion regarding the employee's medical results and exposure limitations.

Additional provisions of the Standard require employers to train employees exposed to MDA at the time of their initial assignment and at least annually thereafter. In addition, employers must post warning signs at entrances or access ways to regulated areas; and label any material or products containing MDA, this includes any containers storing MDA-contaminated protective clothing and equipment. Personnel who launder MDA-contaminated clothing must be informed by the employer that the clothing is contaminated and the potentially harmful effects of MDA.

The Standard also requires employers to establish and maintain exposure-monitoring and medical-surveillance records for each employee who is subject to these respective requirements, make any record required by the Standard available to OSHA compliance officers and the National Institute for Occupational Safety and Health (NIOSH) for examination and copying, and provides exposure-monitoring and medical-surveillance records to employees and their designated representatives. Finally, employers who cease to do business without a successor employer to receive and retain records for the require periods, and employers who plan to dispose of records at the end of the required retention periods, must transfer these records to NIOSH.

II. Special Issues for Comment

OSHA has a particular interest in comments on the following issues:

—Whether the information-collection requirements are necessary for the proper performance of the Agency's functions, including whether the information is useful;

—The accuracy of the Agency's estimate of the burden (time and costs) of the information-collection requirements, including the validity of the methodology and assumptions used;

—The quality, utility, and clarity of the information collected; and

—Ways to minimize the burden on employers who must comply; for example, by using automated or other technological information-collection and -transmission techniques.

III. Proposed Actions

OSHA proposes to extend the Office of Management and Budget's (OMB) approval of the collection-of-information requirements specified by the Standards on 4, 4'-Methylenedianiline in General Industry (29 CFR 1910.1050). The Agency will summarize the comments submitted in response to this notice, and will include this summary in its request to OMB to extend the approval of these information-collection requirements.

Type of Review: Extension of currently approved information-collection requirements.

Title: MDA General Industry Standard (29 CFR 1910.1050).

OMB Number: 1218-0184(2003).

Affected Public: Business or other for-profit; not-for-profit institutions; Federal government; State, local or tribal Governments.

Number of Respondents: 15.

Frequency: On occasion.

Total Responses: 807.

Average Time per Response: Varies from 5 minutes to provide information to the examining physician to 2 hours to conduct exposure-monitoring.

Estimated Total Burden Hours: 387 hours.

Estimated Cost (Operation and Maintenance): $11,430.

III. Authority and Signature

John L. Henshaw, Assistant Secretary of Labor for Occupational Safety and Health, directed the preparation of this notice. The authority for this notice is the Paperwork Reduction Act of 1995 (44 U.S.C. 3506) and Secretary of Labor's Order No. 5-2002 (67 FR 65008).

Dated: Signed at Washington, DC, on July 7, 2003.
John L. Henshaw,
Assistant Secretary of Labor.

[FR Doc. 03-17633 Filed 7-10-03; 8:45 am]

BILLING CODE 4510-26-M